DEPARTMENT OF ENERGY

Federal Energy Regulatory Commission

Combined Notice of Filings #2

Take notice that the Commission received the following electric rate filings:

Docket Numbers: ER10-2042-013; ER10-1941-005; ER11-3840-003; ER10-1938-008; ER13-1407-002; ER13-1670-002; ER10-1934-007; ER10-1893-007; ER10-1888-005; ER10-1885-005; ER10-1884-005; ER10-1883-005; ER10-1878-005; ER10-1876-005; ER10-1875-005; ER10-1873-005; ER12-1987-003; ER10-1947-005; ER10-1864-005; ER10-1862-007; ER12-2261-003; ER10-1865-005.

Applicants: Calpine Energy Services, L.P., Calpine Gilroy Cogen, L.P., Calpine Greenleaf, Inc., Calpine Power America—CA, LLC, CCFC Sutter Energy, LLC,CES Marketing V, LLC,CES Marketing IX, LLC,CES Marketing X, LLC, Creed Energy Center, LLC, Delta Energy Center, LLC, Geysers Power Company, LLC, Gilroy Energy Center, LLC, Goose Haven Energy Center, LLC, Los Esteros Critical Energy Facility LLC, Los Medanos Energy Center, LLC, Metcalf Energy Center, LLC, O.L.S. Energy-Agnews, Inc., Otay Mesa Energy Center, LLC, Pastoria Energy Facility L.L.C., Power Contract Financing, L.L.C., Russell City Energy Company, LLC, South Point Energy Center, LLC.

Description: Notification of Change in Status of the Calpine Corporation subsidiaries Southwest MBR Sellers.

Filed Date: 1/29/14.

Accession Number: 20140129-5133.

Comments Due: 5 p.m. ET 2/19/14.

Docket Numbers: ER14-661-001.

Applicants: SG2 Imperial Valley LLC.

Description: Amended Market-Based Rate Tarriff of SG2 Imperial Valley, LLC to be effective 2/1/2014.

Filed Date: 1/29/14.

Accession Number: 20140129-5086.

Comments Due: 5 p.m. ET 2/19/14.

Docket Numbers: ER14-787-000.

Applicants: Macho Springs Solar, LLC.

Description: Amended Asset Appendices to be effective N/A.

Filed Date: 1/29/14.

Accession Number: 20140129-5098.

Comments Due: 5 p.m. ET 2/10/14.

Docket Numbers: ER14-1181-000.

Applicants: Commonwealth Edison Company, Commonwealth Edison Company of Indiana,, PJM Interconnection, L.L.C.

Description: ComEd submits revisions to PJM OATT Attach H-13A re stated depreciation rates to be effective 3/31/2014.

Filed Date: 1/29/14.

Accession Number: 20140129-5072.

Comments Due: 5 p.m. ET 2/19/14.

Docket Numbers: ER14-1182-000.

Applicants: Commonwealth Edison Company, Commonwealth Edison Company of Indiana, Inc., PJM Interconnection, L.L.C.

Description: ComEd submits a Letter Agmt re Depreciation Rates-Original Service Agmt No. 3747 to be effective 3/31/2014.

Filed Date: 1/29/14.

Accession Number: 20140129-5075.

Comments Due: 5 p.m. ET 2/19/14.

Docket Numbers: ER14-1183-000.

Applicants: Southwestern Electric Power Company.

Description: SWEPCO-TexLa PSA Amendment SPP Integrated Market to be effective 3/1/2014.

Filed Date: 1/29/14.

Accession Number: 20140129-5105.

Comments Due: 5 p.m. ET 2/19/14.

Docket Numbers: ER14-1184-000.

Applicants: Southwestern Electric Power Company.

Description: SWEPCO-ETEC PSA Amendment SPP Integrated Market to be effective 3/1/2014.

Filed Date: 1/29/14.

Accession Number: 20140129-5106.

Comments Due: 5 p.m. ET 2/19/14.

Docket Numbers: ER14-1185-000.

Applicants: Southwestern Electric Power Company.

Description: SWEPCO-NTEC PSA Amendment SPP Integrated Market to be effective 3/1/2014.

Filed Date: 1/29/14.

Accession Number: 20140129-5108.

Comments Due: 5 p.m. ET 2/19/14.

Docket Numbers: ER14-1186-000.

Applicants: Southwestern Electric Power Company.

Description: SWEPCO-TexLa ERCOT PSA Amendment SPP Integrated Market to be effective 3/1/2014.

Filed Date: 1/29/14.

Accession Number: 20140129-5109.

Comments Due: 5 p.m. ET 2/19/14.

Docket Numbers: ER14-1187-000.

Applicants: Southwestern Electric Power Company.

Description: SWEPCO-ETEC NTEC PSA Amendment SPP Integrated Market to be effective 3/1/2014.

Filed Date: 1/29/14.

Accession Number: 20140129-5111.

Comments Due: 5 p.m. ET 2/19/14.

Take notice that the Commission received the following land acquisition reports:

Docket Numbers: LA13-4-000.

Applicants: Shady Hills Power Company, L.L.C.

Description: Quarterly Land Acquisition Report of Shady Hills Power Company, L.L.C.

Filed Date: 1/29/14.

Accession Number: 20140129-5115.

Comments Due: 5 p.m. ET 2/19/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 29, 2014.
Nathaniel J. Davis, Sr.,
Deputy Secretary.

[FR Doc. 2014-02428 Filed 2-4-14; 8:45 am]

BILLING CODE 6717-01-P